SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before December 13, 2021.

ADDRESSES: Send all comments to Terrence Sutherland, Office of Entrepreneurial Education, SBA, terrence.sutherland@sba.gov (202) 205-6919.

FOR FURTHER INFORMATION CONTACT: Terrence Sutherland, Office of Entrepreneurial Education, SBA, terrence.sutherland@sba.gov (202) 205-6919 or Curtis B. Rich, Management Analyst, (202) 205-7030, curtis.rich@sba.gov.

SUPPLEMENTARY INFORMATION: Section 5004 of the American Rescue Plan Act of 2021 (Pub. L. 117-2) authorized SBA to establish a Community Navigator Pilot Program. Under this authority, SBA will make grants to private nonprofit organizations, resource partners, States, Tribes and units of local government to ensure the delivery of free community navigator services to current or prospective owners of small businesses in order to improve access to COVID-related assistance programs and resources.

To facilitate expeditious implementation of the program, SBA obtained emergency approval from OMB, including waiver of the public comment notice required by 5 CFR 1320.8(d). That authority expires on December 31, 2021. SBA is publishing this notice as a prerequisite to obtaining an extension of the approval period of the information collection, which consists of application requirements for the program, SBA Form 3516, Community Navigators Pilot Program Client and Program Information Form, and quarterly reporting requirements.

Information collected from applicants to the Community Navigator Program will be used to determine applicant's eligibility for an award. At this time the application period is no longer open; however, SBA is extending this requirement in the event an additional funding opportunity becomes available. Form 3516 will collect data on the clients served by the awardees of the Community Navigator Pilot Program, which will be used to track grantee performance and help to evaluate program success. The grantees' quarterly performance reports will help SBA to assess program activity and the extent to which grantees are achieving desired program results and appropriately utilizing grant funds in support of the Community Navigator Program.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0423.

Title: Community Navigators Pilot Program.

Description of Respondents: Entrepreneurs receiving technical assistance and Community Navigators grantees providing technical assistance services.

Form Number: SBA 3516.

Total Estimated Annual Responses: 450,000.

Total Estimated Annual Hour Burden: 150,000.

Curtis Rich,
Management Analyst.

[FR Doc. 2021-22319 Filed 10-13-21; 8:45 am]

BILLING CODE 8026-03-P